OFFICE OF SCIENCE AND TECHNOLOGY POLICY

Request for Information on the Development of the 2017 National Plan for Civil Earth Observations; Correction

ACTION: Notice of Request for Information (RFI); correction.

SUMMARY: On June 2, 2016, the White House Office of Science and Technology Policy (OSTP) published a document in the Federal Register (81 FR 35398) requesting information on development of the 2017 National Plan for Civil Earth Observations. That document contained one error in an OSTP email address, and in one of the listed phone numbers. OSTP is therefore reissuing this document with the corrected information.

On behalf of the U.S. Group on Earth Observations (USGEO), a Subcommittee of the National Science and Technology Council (NSTC) Committee on Environment, Natural Resources, and Sustainability (CENRS), OSTP requests input from all interested parties regarding recommendations for the development of the 2017 National Plan for Civil Earth Observations (“National Plan”, or “Plan”). An electronic template with questions will be posted at https://www.usgeo.gov. Comments of up to approximately 2,000 characters per question are requested and must be received by 11:59 p.m. (Eastern Standard Time), July 15, 2016 to be considered. The public input provided in response to this Notice will inform OSTP as it works with Federal agencies and other stakeholders to develop this Plan.

DATES: Responses must be received by 11:59 p.m. (Eastern Standard Time), July 15, 2016, to be considered.

ADDRESSES: You may submit comments by any of the following methods. The first method is preferred by OSTP.

• Downloadable form: To aid in information collection and analysis, the Office of Science and Technology Policy (OSTP) encourages responses to be provided by filling out the downloadable form located at http://www.whitehouse.gov/administration/eop/ostp/library/shareyourinput and emailing that form, as an attachment, to env_energy@ostp.eop.gov. Please include “National Plan for Civil Earth Observations” in the subject line of the message.

• Fax: (202) 456-6071. On the cover page, please state “National Plan for Civil Earth Observations, attn: Timothy Stryker”.

• Mail: Office of Science and Technology Policy, 1650 Pennsylvania Avenue NW., Washington, DC 20504. Information submitted by postal mail should be postmarked by July 15, 2016.

Instructions: Response to this RFI is voluntary. Respondents need not reply to all questions listed. Each individual or institution is requested to submit only one response. OSTP may post responses to this RFI without change, online. OSTP therefore requests that no business proprietary information, copyrighted information, or personally identifiable information be submitted in response to this RFI. Please note that the U.S. Government will not pay for response preparation, or for the use of any information contained in the response.

FOR FURTHER INFORMATION CONTACT: Timothy Stryker, Director, U.S. Group on Earth Observations Program, OSTP; 202-419-5487; tstryker@ostp.eop.gov.

SUPPLEMENTARY INFORMATION:

Background

The U.S. Government is the world's largest single provider of civil environmental and Earth-system data. These data are derived from Earth observations collected by numerous Federal agencies and partners in support of their missions and are critical to the protection of human life and property, economic growth, national and homeland security, and scientific research.

Federal investments in Earth-observation activities ensure that decision makers, businesses, first responders, farmers, and a wide array of other stakeholders have the information they need about climate and weather; natural hazards; land-use change; ecosystem health; water; natural resources; and other characteristics of the Earth system. Taken together, Earth observations provide the indispensable foundation for meeting the Federal Government's long-term sustainability objectives and advancing the Nation's societal, environmental, and economic well-being.

As the Nation's capacity to observe the Earth system has grown, however, so has the operating complexity of sustaining and coordinating civil Earth-observation research, operations, and related activities. To address these growing complexities, in October 2010, Congress charged the Director of OSTP with establishing a mechanism to ensure greater coordination of the research, operations, and activities relating to civil Earth observations, including the development of a triennial strategic implementation plan and a process for external independent advisory input (see the National Aeronautics and Space Authorization Act of 2010, Pub. L. 111-267, Section 702). In response, OSTP coordinated the first-ever Earth Observation Assessment (EOA 2012), a snapshot of the current portfolio of Earth-observing systems and surveys used to meet key Federal civil objectives across thirteen thematic Societal Benefit Areas (SBAs), and released the National Strategy for Civil Earth Observations in April 2013 (“the National Strategy”, see http://www.whitehouse.gov/sites/default/files/microsites/ostp/nstc_2013_earthobsstrategy.pdf).

OSTP subsequently developed and released the first National Plan for Civil Earth Observations with support of the U.S. Group on Earth Observations (USGEO) Subcommittee in July 2014 (“the 2014 National Plan”, see https://www.whitehouse.gov/sites/default/files/microsites/ostp/NSTC/2014_national_plan_for_civil_earth_observations.pdf). Based in large part on the results of EOA 2012, the 2014 National Plan established priorities and supporting actions for advancing our civil Earth-observations capabilities and ensuring stable, continuous, and coordinated Earth-observation capabilities for the benefit of society.

The 2016 Earth Observation Assessment (EOA 2016), the second iteration of the assessment process, is nearing completion. Conducted by the Assessment Working Group of the USGEO Subcommittee, EOA 2016 will provide foundational input for OSTP to use when developing the second National Plan for Civil Earth Observations (“Plan”). In addition, other USGEO Subcommittee activities, including an interagency satellite needs-collection process, U.S. engagement in the intergovernmental Group on Earth Observations (GEO) and efforts to advance the discoverability, accessibility, and usability of Earth-observation data products across the Federal Government, will inform the development of the Plan.

As EOA 2016 nears completion, OSTP has commenced the development of the Plan and is seeking public advisory input on this process through this RFI. The public input provided in response to this RFI will inform OSTP and USGEO as they work with Federal agencies and other stakeholders to develop the Plan. Following the receipt and review of responses to this RFI, OSTP also intends to host a public meeting as an additional way to collect individual, actionable feedback. This meeting will feature Federal and non-Federal participants and allow for focused discussions on specific questions related to the priorities and supporting actions outlined in the first National Plan.

Questions To Inform Development of the National Plan

Through this RFI, OSTP seeks responses to the following questions:

1. What services do you provide or research do you do using Federal Earth observation data and information products? Please provide specific examples.

2. What decisions do you make or support using Federal Earth observation data and information products? Please provide specific examples.

3. In the areas listed below, where has the Federal Government been the most, or least, successful and why? Please provide specific examples. You do not need to provide responses to all listed areas—please focus on those most relevant to your work.

a. Improving spatial and temporal resolution, sample density, and geographic coverage of measurements from Earth observation systems.

b. Developing and deploying new Earth observation systems that address user needs.

c. Improving the discoverability, accessibility, and usability of Earth observation data, model output, and derived information products.

4. One important policy goal for Federal agencies has been to improve external users' ability to find, access, and use Earth observation data and information products. In which of these three areas (finding, accessing, or using) have you witnessed improvements, if any? Please provide specific examples.

5. In the areas listed below, what could the Federal Government do to improve the Earth observations that you rely on? Please provide specific examples. You do not need to provide responses to all listed areas—please focus on those most relevant to your work.

a. Maintain current observing systems.

b. Incrementally improve or upgrade current observing systems.

c. Develop new observing systems with significantly enhanced measurement capabilities.

d. Develop new agency practices to improve the discoverability, accessibility, and usability of Earth observation data.

6. On what emerging technologies, techniques, and management practices should the Federal Government focus attention in the next few years to enhance public services, research in the public interest, and fundamental scientific inquiry?

7. What types of partnerships with Federal agencies, such as those listed below, show the most promise to address current gaps in Earth observation coverage and related service provision? Please provide specific examples. You do not need to provide responses to all listed areas—please focus on those most relevant to your work. You are also free to discuss other types of partnerships that are not listed below.

a. Cooperative research and development agreements.

b. Challenges and prizes.

c. Joint ventures for Earth observation system development and operations.

d. Citizen science and crowdsourced observations.

8. Is your organization concerned about a potential shortage of workers in the United States who are trained to develop, understand, or use Earth observation data and geospatial information? Please provide specific concerns.

9. What, if any, do you believe were the key accomplishments of the first National Plan and what impact did the National Plan have, if any, on your organization? Please provide specific examples.

10. The first National Plan identified eight Supporting Actions (pp. 20-27) required to maximize the benefits derived from the Nation's Earth observations. In priority order, they are:

Action 1: Coordinate and Integrate Observations

Action 2: Improve Data Access, Management, and Interoperability

Action 3: Increase Efficiency and Cost Savings

Action 4: Improve Observation Density and Sampling

Action 5: Maintain and Support Infrastructure

Action 6: Explore Commercial Solutions

Action 7: Maintain and Strengthen International Collaboration

Action 8: Engage in Stakeholder-Driven Data Innovation

Of the actions listed above most relevant to your work, where has the Federal Government been the most, or least, successful, and why? Please provide specific examples.

Ted Wackler,
Deputy Chief of Staff and Assistant Director.

[FR Doc. 2016-14186 Filed 6-14-16; 8:45 am]

BILLING CODE 3270-F6-P